DEPARTMENT OF HEALTH AND HUMAN SERVICES

Centers for Disease Control and Prevention

Draft Revised Guidelines for HIV Counseling, Testing, and Referral

AGENCY: Centers for Disease Control and Prevention (CDC), Department of Health and Human Services (HHS).

ACTION: Notice and Request for Comments.

SUMMARY: This notice announces the availability for public comment of a document entitled “Revised Guidelines for HIV Counseling, Testing, and Referral.”

DATES: Comments must be submitted in writing on or before November 30, 2000. Comments should be submitted to the Technical Information and Communications Branch, Mailstop E-49, Division of HIV/AIDS Prevention, National Center for HIV, STD, and TB Prevention, Centers for Disease Control and Prevention (CDC), 1600 Clifton Road, N.E., Atlanta, Georgia 30333; Fax: 404-639-2007; E-mail: hivmail@cdc.gov.

FOR FURTHER INFORMATION CONTACT: Requests for copies of the draft “Revised Guidelines for HIV Counseling, Testing, and Referral” should be submitted to the CDC National Prevention Information Network, P.O. Box 6003, Rockville, Maryland 20849-6003; telephone (800) 458-5231; or copies can be downloaded from the Division of HIV/AIDS Prevention website at www.cdc.gov/hiv.

SUPPLEMENTARY INFORMATION: The first CDC guidelines, published in 1986, highlighted the importance of offering voluntary testing and counseling services and maintaining confidential records. In 1987, CDC guidelines emphasized the need to decrease any barriers to counseling and testing, especially disclosure of personal information. An additional report was published in 1993 to supplement and update the 1987 guidelines. These guidelines described the model of HIV prevention counseling which is currently recommended. The 1994 report, “HIV Counseling, Testing and Referral Standards and Guidelines,” focused on standard testing procedures and reiterated the importance of the HIV prevention counseling model and the need for confidentiality of counseling services. The recommendations in the current draft “Revised Guidelines for HIV Counseling, Testing, and Referral” reflect new advances which have occurred during the last 6 years in the areas of HIV counseling, testing, and referral: (1) High-quality HIV prevention counseling models are efficacious for changing behavior and reducing the incidence of sexually transmitted diseases (STDs) in HIV-uninfected persons at increased risk. (2) Treatment has been found to be effective, improving quality and duration of life. (3) Therapy has been shown to dramatically reduce the risk of perinatal HIV transmission. (4) New testing technologies are increasingly available. (5) Guidances on partner counseling and referral services, prevention case management, prevention and control of STDs, and prevention of opportunistic infections have been published.

Dated: October 25, 2000.
Joseph R. Carter,
Associate Director for Management and Operations, Centers for Disease Control and Prevention (CDC).

[FR Doc. 00-27869 Filed 10-30-00; 8:45 am]

BILLING CODE 4163-18-P